FEDERAL ELECTION COMMISSION

Sunshine Act Notices

DATE AND TIME: Thursday, November 2, 2006 at 10 a.m.

PLACE: 999 E Street, NW., Washington, DC (Ninth Floor).

STATUS: This meeting will be open to the public.

ITEMS TO BE DISCUSSED:

Correction and Approval of Minutes.

Advisory Opinion 2006-29: Representative Mary Bono, by Jason Vasquez, Communications Director.

Advisory Opinion 2006-30: ActBlue, by Jonathan Zucker, Senior Strategist and Counsel.

Draft Guidance Bulletin Regarding “Purpose of Disbursement” Entries for Reports Filed with the Commission.

Management and Administrative Matters.

FOR FURTHER INFORMATION CONTACT: Mr. Robert Biersack, Press Officer.

Mary W. Dove,
Secretary of the Commission.

[FR Doc. 06-8991 Filed 10-26-06; 3:03 pm]

BILLING CODE 6715-01-M